NATIONAL SCIENCE FOUNDATION

Alan T. Waterman Award Committee; Notice of Meeting

In accordance with the Federal Advisory Committee Act (Pub. L. 92-463, as amended), the National Science Foundation (NSF) announces the following meeting:

Name: Alan T. Waterman Award Committee (#1172).

Date and Time: January 31, 2017; 9:30 a.m. to 2:30 p.m.

Place: National Science Foundation, 4201 Wilson Boulevard, Room 1235, Arlington, Virginia 22230.

Type of Meeting: Closed.

Contact Person: Sherrie B. Green, Program Manager, Room 1270, National Science Foundation, 4201 Wilson Blvd., Arlington, VA 22230; (703) 292-5053.

Purpose of Meeting: To provide advice and recommendations in the selection of the Alan T. Waterman Award recipient.

Agenda: To review and evaluate nominations as part of the selection process for awards.

Reason for Closing: The nominations being reviewed include information of a proprietary or confidential nature, including technical information; financial data, such as salaries, and personal information concerning individuals associated with the nominations. These matters are exempt under 5 U.S.C. 552b(c), (4) and (6) of the Government in the Sunshine Act.

Dated: January 10, 2017.
Crystal Robinson,
Committee Management Officer.

[FR Doc. 2017-00634 Filed 1-12-17; 8:45 am]

BILLING CODE 7555-01-P